INTERNATIONAL TRADE COMMISSION

[Investigation Nos. 701-TA-684 and 731-TA-1597 (Final)]

Gas Powered Pressure Washers From China

Determinations

On the basis of the record ¹ developed in the subject investigations, the United States International Trade Commission (“Commission”) determines, pursuant to the Tariff Act of 1930 (“the Act”), that an industry in the United States is materially injured by reason of imports of gas powered pressure washers from China, provided for in subheadings 8424.30.90 and 8424.90.90 of the Harmonized Tariff Schedule of the United States, that have been found by the U.S. Department of Commerce (“Commerce”) to be sold in the United States at less than fair value (“LTFV”) and subsidized by the government of China.2 3

¹ The record is defined in § 207.2(f) of the Commission's Rules of Practice and Procedure (19 CFR 207.2(f)).

² 88 FR 88365 (December 21, 2023), 88 FR 88578 (December 22, 2023).

³ The Commission also finds that imports subject to Commerce's affirmative critical circumstances determinations are not likely to undermine seriously the remedial effect of the antidumping or countervailing duty orders on gas powered pressure washes from China.

Background

The Commission instituted these investigations effective December 30, 2022, following receipt of petitions filed with the Commission and Commerce by FNA Group, Inc., Pleasant Prairie, Wisconsin. The Commission scheduled the final phase of the investigations following notification of preliminary determinations by Commerce that imports of gas powered pressure washers from Vietnam were being sold at LTFV within the meaning of section 733(b) of the Act (19 U.S.C. 1673b(b)) and that imports of gas powered pressure washers from China were being subsidized by the government of China within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on June 22, 2023 (88 FR 40865). The Commission conducted its hearing through written testimony and video conference on August 24, 2023. All persons who requested the opportunity were permitted to participate.

The investigation schedules became staggered when Commerce did not postpone its final determination for the antidumping duty investigation regarding gas powered pressured washers from Vietnam, while it did postpone the final determinations for the antidumping and countervailing duty investigations regarding gas powered pressure washers from China. On October 13, 2023, the Commission issued a final affirmative determination in its antidumping duty investigation of gas powered pressure washers from Vietnam (88 FR 71885, October 18, 2023). Following notification of final determinations by Commerce that imports of gas powered pressure washers from China were being sold at LTFV within the meaning of section 735(a) of the Act (19 U.S.C. 1673d(a)) and subsidized by the government of China within the meaning of section 705(a) of the Act (19 U.S.C. 1671d(a)), notice of the supplemental scheduling of the final phase of the Commission's antidumping and countervailing duty investigations was given by posting copies of the notice in the Office of the Secretary, U.S. International Trade Commission, Washington, DC, and by publishing the notice in the Federal Register of January 2, 2024 (89 FR 90).

The Commission made these determinations pursuant to §§ 705(b) and 735(b) of the Act (19 U.S.C. 1671d(b) and 19 U.S.C. 1673d(b)). It completed and filed its determinations in these investigations on February 5, 2024. The views of the Commission are contained in USITC Publication 5488 (February 2024), entitled Gas Powered Pressure Washers from China: Investigation Nos. 701-TA-684 and 731-TA-1597 (Final).

By order of the Commission.
Issued: February 5, 2024.
Lisa Barton,
Secretary to the Commission.

[FR Doc. 2024-02627 Filed 2-8-24; 8:45 am]

BILLING CODE 7020-02-P